ENVIRONMENTAL PROTECTION AGENCY

[OPP-2005-0158; FRL-7717-6]

Pesticide Product; Registration Approval

AGENCY: Environmental Protection Agency (EPA).

ACTION: Notice.

SUMMARY: This notice announces Agency approval of an application to register the pesticide products, Bedoukian (Z)-6-Heneicosen-11-one Technical Pheromone, ProAct, Smolder WP, and Smolder G containing an active ingredient not included in any previously registered product pursuant to the provisions of section 3(c)(5) of the Federal Insecticide, Fungicide, and Rodenticide Act (FIFRA), as amended.

FOR FURTHER INFORMATION CONTACT: The Regulatory Action Leader listed in the table in this unit:

File Symbol | Regulatory Action Leader | Mailing Address | Telephone Number and E-mail Address
34704-IEL 34704-IEU 34704-824 34704-825 | Tessa Milofsky | Biopesticides and Pollution Prevention Division (7511C), Office of Pesticide Programs, Environmental Protection Agency, 1200 Pennsylvania Ave., NW., Washington, DC 20460-0001 | (703) 308-0455 milofsky.tessa@epa.gov
52991-RT 52991-17 | Andrew Bryceland | Do. | (703) 305-6928 bryceland.andrew@epa.gov
69834-L 69834-5 | Susanne Cerrelli | Do. | (703) 308-8077 cerrelli.susanne@epa.gov

SUPPLEMENTARY INFORMATION:

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions. If you have any questions regarding the applicability of this action to a particular entity, consult the person listed under FOR FURTHER INFORMATION CONTACT.

B. How Can I Get Copies of this Document and Other Related Information?

1. Docket. EPA has established an official public docket for this action under docket identification (ID) number OPP-2005-0158. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Approve the Application?

The Agency approved the applications after considering all required data on risks associated with the proposed use of (Z)-6-Heneicosen-11-one, Harpinαβ Protein, and Alternaria destruens strain 059, and information on social, economic, and environmental benefits to be derived from use. Specifically, the Agency has considered the nature of the chemicals and their patterns of use, application methods and rates, and level and extent of potential exposure. Based on these reviews, the Agency was able to make basic health and safety determinations which show that use of (Z)-6-Heneicosen-11-one, Harpinαβ Protein, and Alternaria destruens strain 059 when made in accordance with widespread and commonly recognized practice, will not generally cause unreasonable adverse effects to the environment.

III. Approved Application

1. EPA issued a notice, published in the Federal Register of January 28, 2004 (69 FR 4133-4135) (FRL-7339-9), which announced that Bedoukian Research, Inc., 21 Finance Drive, Danbury CT 06810-4192, had submitted an application to register the pesticide product, Bedoukian (Z)-6-Heneicosen-11-one Technical Pheromone, Pheromone/attractant (EPA File Symbol 52991-RT), containing (Z)-6-Heneicosen-11-one. This product was not previously registered.

The application was approved on January 21, 2005, as Bedoukian (Z)-6-Heneicosen-11-one Technical Pheromone (EPA Registration Number 52991-17) for incorporation into end-use products, and not for direct treatment of pest.

2. EPA issued a notice, published in the Federal Register of August 11, 2004 (69 FR 48867-48870) (FRL-7365-9), which announced that Eden Bioscience Corporation, 3830 Monte Villa Parkway, Suite 100 Bothell, WA 98021-7266, had submitted an application to register the pesticide product, EBC-351, a biochemical pesticide that provides growth enhancement, disease suppression and enhances crop yield (EPA File Symbol 69834-L), containing Harpinαβ Protein. This product was not previously registered.

The application was approved on February 9, 2005, as ProAct (formerly EBC-351) (EPA Registration Number 69834-5) for use on all food commodities as well as on turf, trees, and ornamentals.

3. EPA issued a notice, published in the Federal Register of February 7, 2001 (66 FR 9318-9319) (FRL-6754-9-), which announced that Platte Chemical Company (Note: The present manufacturer is Loveland Products, Inc., 7251 West 4th Street, Greely, CO 80634) had submitted an application to register the pesticide products, Smolder WP, herbicide (EPA File Symbol 34704-IEL) and, Smolder G, herbicide (EPA File Symbol 34704-IEU), containing Alternaria destruens strain 059. This product was not previously registered.

The application was approved on May 5, 2005, as Smolder WP (EPA Registration Number 34704-825) and Smolder G (EPA Registration Number 34704-824) for control of dodder in agricultural fields, dry bogs, and ornamental nurseries.

List of Subjects

Environmental protection, Chemicals, Pesticides and pests.

Dated: June 10, 2005.
Janet L. Andersen,
Director, Biopesticides and Pollution Prevention Division, Office of Pesticide Programs.

[FR Doc. 05-12201 Filed 6-21-05; 8:45 am]

BILLING CODE 6560-50-S